DEPARTMENT OF AGRICULTURE

Rural Utilities Service

Oglethorpe Power Corporation; Notice of Intent

AGENCY: Rural Utilities Service, USDA.

ACTION: Notice of Intent to Hold a Public Meeting and Prepare an Environmental Assessment.

SUMMARY: Notice is hereby given that the Rural Utilities Service (RUS), pursuant to the National Environmental Policy Act of 1969 (42 U.S.C. 4321 et seq.), the Council on Environmental Quality (CEQ) Regulations for Implementing NEPA (40 CFR Parts 1500-1508), and RUS Environmental Policies and Procedures (7 CFR Part 1794) proposes to prepare an Environmental Assessment related to possible financing assistance to Oglethorpe Power Corporation to construct a 520 megawatt, combined cycle combustion turbine project in Heard County, Georgia.

DATES: RUS will conduct a public scoping meeting in an open house format on Thursday, October 19, 2000, from 4:30 p.m. until 7:30 p.m.

ADDRESSES: The scoping meeting will be held at the Heard County Parks and Recreation Department, Riverside Park Gymnasium, 101 Glover Road, Franklin, Georgia. All interested parties are invited to attend the meeting.

FOR FURTHER INFORMATION CONTACT: Bob Quigel, Engineering and Environmental Staff, Rural Utilities Service, at (202) 720-0468. Bob's E-mail address is bquigel@rus.usda.gov. You can also contact Greg Jones of Oglethorpe Power Corporation at 1-800-241-5374, extension 7890. Greg's email address is greg.jones@opc.com.

SUPPLEMENTARY INFORMATION: Oglethorpe Power Corporation proposes to construct the natural gas fired electric generation plant at the Hal B. Wansley Plant site in northeast Heard County approximately six miles southeast of Roopville, Georgia. The existing Wansley Plant is a 1,730 megawatt, coal fired, electric generation facility owned by Oglethorpe Power Corporation, Georgia Power Company, the Municipal Electricity Authority of Georgia, and the City of Dalton. The proposed plant is one of four blocks of additional electric generation facilities planned for construction at the site. Each block of additional generation is proposed to consist of two combustion turbines and one heat recovery steam generator. The total build-out of the four blocks would total approximately 2,280 megawatts. No new electric transmission lines will need to be constructed to connect this plant to the existing electric transmission grid. No new natural gas pipeline will be constructed to exclusively serve this plant. Georgia Power Company is proposing to construct a natural gas pipeline that is planned to provide an adequate gas supply to the total build-out at the Wansley Plant site.

The proposed project will be composed of two, nominal 167 megawatt Siemens V84.3A2 connected to a heat recovery steam generator which will power a Siemens steam turbine. Which This will increase the total plant output by 187 megawatts for a total of 520 megawatts. It is the goal of Oglethorpe Power Corporation to have the plant in operation by the spring of 2003.

Alternatives considered by RUS and Oglethorpe Power Corporation to constructing the proposed generation facility proposed include: (a) No action, (b) purchased power, (c) load management, (d) renewable energy, (e) hydroelectric generation, (f) pumped storage hydroelectric generation, and (g) distributed generation.

An alternative evaluation and site selection study for the project was prepared by Oglethorpe Power Corporation. The alternative evaluation and site selection study are available for public review at RUS in Room 2242, 1400 Independence Avenue, SW, Washington, DC, and at the headquarters of Oglethorpe Power Corporation located at 2100 East Exchange Place, Tucker, Georgia. This document will also be available at the West Georgia Regional Library at 710 Rome Street, Carrollton, Georgia, phone (770) 836-6711,; the Heard County Public Library at 564 Main Street, Franklin, Georgia, phone (706) 675-6501; and the Newnan-Coweta Public Library at 25 Hospital Road, Newnan, Georgia, phone (770) 253-3625.

Government agencies, private organizations, and the public are invited to participate in the planning and analysis of the proposed project. Representatives of RUS and Oglethorpe Power Corporation will be available at the scoping meeting to discuss RUS' environmental review process, describe the project and alternatives under consideration, discuss the scope of environmental issues to be considered, answer questions, and accept oral and written comments. Written comments will be accepted for at least 30 days after the public scoping meeting.

From information provided in the alternative evaluation and site selection study, input that may be provided by government agencies, private organizations, and the public, Oglethorpe Power Corporation will prepare an environmental analysis to be submitted to RUS for review. RUS will use the environmental analysis to determine the significance of the impacts of the project and may adopt it as its environmental assessment of the project. RUS' environmental assessment of the project would be available for review and comment for 30 days.

Should RUS determine, based on the environmental assessment of the project, that the impacts of the construction and operation of the plant would not have a significant environmental impact, it will prepare a finding of no significant impact. Public notification of a finding of no significant impact would be published in the Federal Register and in newspapers with a circulation in the project area.

Any final action by RUS related to the proposed project will be subject to, and contingent upon, compliance with environmental review requirements as prescribed by CEQ and RUS environmental policies and procedures.

Dated: September 28, 2000.
Glendon Deal,
Acting Director, Engineering and Environmental Staff.

[FR Doc. 00-25452 Filed 10-3-00; 8:45 am]

BILLING CODE 3410-15-P